DEPARTMENT OF ENERGY

Federal Energy Regulatory Commission

[Project Nos. 135-016-OR and 2195-008-OR]

Portland General Electric; Notice of Application for Amendment of License and Soliciting Comments, Motions To Intervene, and Protests

January 24, 2002.

a. Type of Filing: Amendment of license.

b. Project No: 135 and 2195.

c. Date Filed: November 28, 2001.

d. Applicant: Portland General Electric.

e. Name of Project: Oak Grove and North Fork Projects.

f. Location: The projects are located on the Oak Grove Fork and Clackamas River, near city of Estacada, in Clackamas County, Oregon.

g. Filed Pursuant to: Federal Power Act 16 U.S.C. 791(a)-825(r), Section 4.201 of the Commission's Regulations.

h. Applicant Contact: Julie Keil, Director Hydro Licensing, Portland General Electric Co., 121 SW Salmon St., 3WTC|BRHL, Portland, OR 97204, (503) 464-8864.

i. FERC Contact: William Guey-Lee, (202) 219-2808, or william.gueylee@ferc.fed.us.

j. Deadline for filing comments, motions to intervene or protests: 30 days from the issuance date of this notice.

All documents (original and eight copies) should be filed with: Secretary, Federal Energy Regulatory Commission, 888 First Street, NE., Washington, DC 20426. Comments, protests and interventions may be filed electronically via the Internet in lieu of paper. See, 18 CFR 385.2001(a)(1)(iii) and the instructions on the Commission's web site under the “e-Filing” link.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Description of Project: The applicant is proposing to amend the project licenses to permit the replacement of one turbine runner at the Faraday development of Project No. 2195, permit the upgraded operation of a new runner installed at the North Fork development of Project No. 2195, modify the spillway at the River Mill development of Project No. 2195, construct a new fish ladder and downstream bypass outfall at the River Mill development, and combine the licenses of Project Nos. 135 and 2195. The Oak Grove and North Fork Projects are currently operated under two separate licenses that will expire on August 31, 2006. The projects occupy U.S. lands within Mt. Hood National Forest.

l. Location of the Filing: A copy of the filing is available for inspection and reproduction at the Commission's Public Reference Room, located at 888 First Street, NE., Room 2A, Washington, DC 20426, or by calling (202) 208-1371. Copies of this filing are on file with the Commission and are available for public inspection. This filing may also be viewed on the web at http://www.ferc.gov using the “RIMS” link, select “Docket#” and follow the instructions (call 202-208-2222 for assistance). A copy is also available for inspection and reproduction at the address in item h above.

m. Individuals desiring to be included on the Commission's mailing list should so indicate by writing to the Secretary of the Commission.

Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS”, “PROTEST”, OR “MOTION TO INTERVENE”, as applicable, and the Project Number of the particular application to which the filing refers. Any of the above-named documents must be filed by providing the original and the number of copies provided by the Commission's regulations to: The Secretary, Federal Energy Regulatory Commission, 888 First Street, NE., Washington, DC 20426. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

n. A scoping document is also being mailed out concurrently for comment.

C.B. Spencer,
Acting Secretary.

[FR Doc. 02-2246 Filed 1-29-02; 8:45 am]

BILLING CODE 6717-01-P